DEPARTMENT OF COMMERCE

Foreign-Trade Zones Board

[S-172-2024]

Approval of Subzone Status; Permco FTZ LLC; Montville and Streetsboro, Ohio

On September 30, 2024, the Executive Secretary of the Foreign-Trade Zones (FTZ) Board docketed an application submitted by the Cleveland Cuyahoga County Port Authority, grantee of FTZ 40, requesting subzone status subject to the existing activation limit of FTZ 40, on behalf of Permco, Inc. (now Permco FTZ LLC), in Montville and Streetsboro, Ohio.

The application was processed in accordance with the FTZ Act and Regulations, including notice in the Federal Register inviting public comment (89 FR 80857, October 4, 2024). The FTZ staff examiner reviewed the application and determined that it meets the criteria for approval. Pursuant to the authority delegated to the FTZ Board Executive Secretary (15 CFR 400.36(f)), the application to establish Subzone 40M was approved on November 14, 2024, subject to the FTZ Act and the Board's regulations, including section 400.13, and further subject to FTZ 40's 2,000-acre activation limit.

Dated: November 14, 2024.
Elizabeth Whiteman,
Executive Secretary.

[FR Doc. 2024-27010 Filed 11-19-24; 8:45 am]

BILLING CODE 3510-DS-P